DEPARTMENT OF HEALTH AND HUMAN SERVICES

Health Resources and Services Administration

Notice of Supplemental Funding; Autism Longitudinal Data Project and Linking the Boston Birth Cohort and Pregnancy to Health Databases: A Longitudinal Cohort of Mother-Child Dyads

AGENCY: Health Resources and Services Administration (HRSA), Department of Health and Human Services.

ACTION: Notice of supplemental funding.

SUMMARY: HRSA is announcing supplemental award funds through the Patient-Centered Outcomes Research Trust Fund to the current HRSA award recipient to build further data capacity under the Autism Longitudinal Data Project. The funding will support this multi-agency data linkage project linking existing datasets to create a comprehensive longitudinal dataset. Supplemental funding was previously awarded in fiscal year 2024 for the initial phase of the project, which started in July 2024, and this award will continue that work.

FOR FURTHER INFORMATION CONTACT: Evva Assing-Murray, Senior Health Scientist, Division of Research, Office of Epidemiology and Research, Maternal and Child Health Bureau, HRSA, at EAssing-Murray@hrsa.gov or 301-594-4113.

SUPPLEMENTARY INFORMATION:

Intended Recipient of the Award: Johns Hopkins University.

Amount of Non-Competitive Award: One award for $533,887.

Project Period: September 1, 2022, to August 31, 2027.

Assistance Listing Number: 93.877.

Award Instrument: Non-competitive single-source supplement.

Authority: 26 U.S.C. 9511(d)(2)(C).

Table 1—Recipient(s) and Award Amount(s)
Grant No. | Award recipient name | City, state | Award amount
UT7MC45949 | Johns Hopkins University | Baltimore, MD | $533,887

Justification: There is a lack of longitudinal data from birth cohorts in the United States to assess maternal and infant health and inter-generational health from a life course perspective. Through this supplement, the data linkage will generate a rich dataset with a broad array of data on biological, socio-economic, home and neighborhood environment, behavioral risk and protective factors, health services, and expenses across the developmental and life stages. Johns Hopkins University is uniquely qualified to conduct this work because it has:

• A long-standing record of successfully completing government-funded projects. Johns Hopkins University is currently in the 4th year of its second 5-year award from HRSA and has consistently met its goals and objectives.

• Led and managed the Boston Birth Cohort since its inception in 1998. As such, Johns Hopkins University is experienced in the:

○ Complexities of data sharing across institutions, and

○ Technical aspects of linking data.

• Access to these restricted datasets. The Boston Birth Cohort is a restricted use data resource that contains personally identifiable, confidential data, the disclosure of which is protected by law. Johns Hopkins University and its clinical site, Boston Medical Center, maintain these data and are the only entities that currently have access to the datasets required for this activity.

This data linkage project will run from July 2024 to July 2027. This is a continuation of an ongoing activity that was funded in fiscal year 2024 to the same intended recipient. The Patient-Centered Outcomes Research Trust Fund, administered by the Office of the Assistant Secretary for Planning and Evaluation, funds this supplement.

Thomas J. Engels,
Administrator.

[FR Doc. 2025-16649 Filed 8-28-25; 8:45 am]

BILLING CODE 4165-15-P